DEPARTMENT OF COMMERCE

National Oceanic and Atmospheric Administration

[I.D. 100903B]

Endangered and Threatened Species; Take of Anadromous Fish

AGENCY: National Marine Fisheries Service (NMFS), National Oceanic and Atmospheric Administration (NOAA), Commerce.

ACTION: Notice of availability and request for comment.

SUMMARY: Notice is hereby given that NMFS has prepared a draft Environmental Assessment (EA) under the National Environmental Policy Act (NEPA) of the potential effects of approval of a Fishery Management and Evaluation Plan (FMEP) submitted by the Oregon Department of Fish and Wildlife (ODFW) for a coho salmon fishery in Siltcoos and Tahkenitch Lakes, located south of the town of Florence along the Oregon Coast. The objectives of the FMEP are to provide some fishing opportunity in years when coho salmon returns are high and in a manner that does not affect the viability of the local coho population and the Oregon Coast Evolutionarily Significant Unit (ESU) as a whole. This document serves to notify the public of the availability of the draft EA for public comment before a final decision on whether to issue a Finding of No Significant Impact is made by NMFS.

DATES: Written comments on the draft EA must be received at the appropriate address or fax number (see ADDRESSES) no later than 5 p.m. Pacific daylight time on November 10, 2003.

ADDRESSES: Written comments and requests for copies of the draft EA and ODFW's FMEP should be addressed to Lance Kruzic, Salmon Recovery Division, 2900 N.W. Stewart Parkway, Roseburg, OR 97470 or faxed to (541) 957-3381. The documents are also available on the Internet at http://www.nwr.noaa.gov/1fmep/fmepsbmt.htm. Comments will not be accepted if submitted via e-mail or the Internet.

FOR FURTHER INFORMATION CONTACT: Lance Kruzic, Roseburg, OR, at phone number (541) 957-3381 or e-mail: lance.kruzic@noaa.gov.

SUPPLEMENTARY INFORMATION: This notice is relevant to the Oregon Coast coho salmon (Oncorhynchus kisutch) Evolutionarily Significant Unit.

Background

The ODFW has submitted to NMFS a FMEP for a recreational fishery in Siltcoos and Tahkenitch Lakes, located along the Oregon Coast. As specified in the July 10, 2000, Endangered Species Act 4(d) rule for salmon and steelhead (65 FR 42422), NMFS may approve an FMEP if it meets criteria set forth in § 223.203 (b)(4)(i)(A) through (I). Prior to final approval of an FMEP, NMFS must publish notification announcing its availability for public review and comment. The notice of availability of this FMEP was published on August 29, 2003 (68 FR 51995). The comment period closed on September 29, 2003.

NEPA requires Federal agencies to conduct an environmental analysis of their proposed actions to determine if the actions may affect the human environment. The proposed action is to approve the FMEP submitted by the ODFW. The proposed coho salmon fishery would occur in Siltcoos and Tahkenitch Lakes in years when returns are high and expected to exceed specified spawning escapement guidelines. In the draft EA currently available for public comment, NMFS considered the effects of this action on the physical, biological, and socioeconomic environments. NMFS is seeking public input on the scope of the required NEPA analysis, including the range of reasonable alternatives and associated impacts of any alternatives.

Dated: October 20, 2003.
Phil Williams,
Acting Director, Office of Protected Resources, National Marine Fisheries Service.

[FR Doc. 03-26930 Filed 10-23-03; 8:45 am]

BILLING CODE 3510-22-S